DEPARTMENT OF TRANSPORTATION

Federal Aviation Administration

Aircraft Electrical Load and Power Source Capacity Analysis

AGENCY: Federal Aviation Administration, DOT.

ACTION: Notice of availability; request for comments.

SUMMARY: This notice announces a Federal Aviation Administration (FAA) proposed policy on recognizing ASTM International's F2490-05 Standard Guide for Aircraft Electrical Load and Power Source Capacity Analysis as an acceptable means of compliance to 14 CFR part 23, 23.1351(a)(2). The Standard Guide provides acceptable methods and procedures to determine electrical system capacity needed to provide worst-case combinations of electrical loads during all phases of airplane operations. This notice is necessary to advise the public of this FAA policy and give all interested persons an opportunity to present their views on it.

DATES: Comments must be received on or before May 12, 2006.

ADDRESSES: Mail comments to: Federal Aviation Administration, Small Airplane Directorate, Continued Operational Safety, ACE-113, Attention: Barry Ballenger, Room 301, 901 Locust, Kansas City, Missouri 64106. Specify the standard being addressed by ASTM designation and title and mark all comments: Consensus Standards Comments.

FOR FURTHER INFORMATION CONTACT: Barry Ballenger, Aerospace Engineer, Continued Operational Safety Branch (ACE-113), Small Airplane Directorate, Aircraft Certification Service, Federal Aviation Administration, 901 Locust, Room 301, Kansas City, Missouri 64106; telephone (816) 329-4152; e-mail: barry.ballenger@faa.gov.

Comments Invited: Interested persons are invited to submit such written data, views, or arguments, as they may desire. Communications should identify the consensus standard number and be submitted to the address specified above. All communications received on or before the closing date for comments will be forwarded to ASTM International Committee F39 for consideration. The standard may be changed in light of the comments received. The FAA will address all comments received during the recurring review of the consensus standard and will participate in the consensus standard revision process.

Background: Under the provisions of the revised Office of Management and Budget (OMB) Circular A-119, “Federal Participation in the Development and Use of Voluntary Consensus Standards and in Conformity Assessment Activities,” dated February 10, 1998, industry and the FAA have been working with ASTM International to develop consensus standards for the design, fabrication, modification, inspection, and maintenance of electrical systems installed on normal and utility category airplanes.

These consensus standards satisfy the FAA's goal for airworthiness certification and a verifiable minimum safety level for normal, utility, acrobatic, and commuter category airplanes. The FAA participates as a member of Committee F39 in developing these standards. The use of the consensus standard process assures government and industry discussion and agreement on appropriate standards for the required level of safety.

The Consensus Standards

The FAA finds the following new consensus standard acceptable for normal and utility, acrobatic, and commuter category airplanes. The consensus standard listed below may be used unless the FAA publishes a specific notification otherwise.

a. ASTM Designation F 2490-05, titled: Standard Guide for Aircraft Electrical Load and Power Source Capacity Analysis.

Availability

ASTM International, 100 Barr Harbor Drive, PO Box C700, West Conshohocken, PA 19428-2959 copyrights these consensus standards. Individual reprints of this standard (single or multiple copies, or special compilations and other related technical information) may be obtained by contacting ASTM at this address, or at (610) 832-9585 (phone), (610) 832-9555 (fax), through service@astm.org (e-mail), or through the ASTM Web site at http://www.astm.org/. To inquire about standard content and/or membership, or about ASTM International Offices abroad, contact Daniel Schultz, Staff Manager for Committee F39 on Aircraft Electrical Load and Power Source Capacity Analysis: (610) 832-9716, dschultz@astm.org.

David R. Showers,
Acting Manager, Small Airplane Directorate, Aircraft Certification Service.

[FR Doc. E6-3478 Filed 3-10-06; 8:45 am]

BILLING CODE 4910-13-P